DEPARTMENT OF COMMERCE

Foreign-Trade Zones Board

[Docket 13-2010]

Foreign-Trade Zone 204—Tri-Cities Area, Tennessee/Virginia; Application for Expansion

An application has been submitted to the Foreign-Trade Zones (FTZ) Board (the Board) by the Tri-Cities Airport Commission, grantee of FTZ 204, requesting authority to expand its zone to include a site in Bristol, Tennessee in the Tri-Cities Area, Tennessee/Virginia, adjacent to the Tri-Cities Customs and Border Protection port of entry. The application was submitted pursuant to the provisions of the Foreign-Trade Zones Act, as amended (19 U.S.C. 81a-81u), and the regulations of the Board (15 CFR Part 400). It was formally filed on March 4, 2010.

FTZ 204 was approved on October 18, 1994 (Board Order 706, 59 FR 54432, 10/31/94) and expanded on June 7, 2002 (Board Order 1233, 67 FR 41393, 06/18/02).

The zone project currently consists of the following sites in the Tri-Cities Area of Tennessee and Virginia: Site 1 (977 acres)—within the Tri-Cities Regional Airport complex, Blountville (Sullivan County), Tennessee; Site 2 (26 acres)—402 Steel Street, Johnson City (Washington County), Tennessee; Site 3 (330 acres)—Northeast Tennessee Business Park, adjacent to the Tri-Cities Regional Airport, at the intersection of TN 357 and Highway 75, Kingsport (Sullivan County), Tennessee; Site 4 (129 acres)—Bristol Tennessee Industrial Park, Bristol (Sullivan County), Tennessee; Site 5 (799 acres)—Tri-County Industrial Park, Piney Flats (Sullivan County), Tennessee; Site 6 (206 acres)—Regional Med-Tech Center, Johnson City (Washington County), Tennessee; Site 7 (103 acres)—Linden/Hairston Industrial Park, Linden Drive at Bonham Rd., Bristol, Virginia; Site 8 (2,100 acres)—Holston Business and Technology Park, 4509 West Stone Drive, Kingsport (Hawkins County), Tennessee; Site 9 (134 acres)—Washington County Industrial Park, Cherry Hill Road, Johnson City (Washington County), Tennessee; and, Site 10 (113 acres)—within the 306-acre Oak Park Industrial Park, Westinghouse Road and Oak Park Drive, Washington County, Virginia (expires 8/31/12).

The applicant is requesting authority to expand the zone to include an additional site in the Tri-Cities area: Proposed Site 11 (226 acres)—Partnership Park II, 2504 Weaver Pike, Bristol, Tennessee. The site will provide public warehousing and distribution services to area businesses. No specific manufacturing authority is being requested at this time. Such requests would be made to the Board on a case-by-case basis.

In accordance with the Board's regulations, Kathleen Boyce of the FTZ Staff is designated examiner to evaluate and analyze the facts and information presented in the application and case record and to report findings and recommendations to the Board.

Public comment is invited from interested parties. Submissions (original and 3 copies) shall be addressed to the Board's Executive Secretary at the address below. The closing period for their receipt is May 17, 2010. Rebuttal comments in response to material submitted during the foregoing period may be submitted during the subsequent 15-day period (to June 1, 2010).

A copy of the application and accompanying exhibits will be available for public inspection at the Office of the Executive Secretary, Foreign-Trade Zones Board, Room 2111, U.S. Department of Commerce, 1401 Constitution Avenue, NW., Washington, DC 20230-0002, and in the “Reading Room” section of the Board's Web site, which is accessible via http://www.trade.gov/ftz.

For further information, contact Kathleen Boyce at Kathleen.Boyce@trade.gov or 202-482-1346.

Dated: February 24, 2010.
Andrew McGilvray,
Executive Secretary.

[FR Doc. 2010-5850 Filed 3-16-10; 8:45 am]

BILLING CODE 3510-DS-P